Proclamation 9970 of November 27, 2019

World AIDS Day, 2019

By the President of the United States of America

A Proclamation

Our Nation unites on World AIDS Day to show support for people living with human immunodeficiency virus (HIV) and acquired immunodeficiency syndrome (AIDS). We also pause to solemnly remember those worldwide who have lost their lives to HIV and AIDS-related illnesses. As we mourn this tragic loss of life, we acknowledge the remarkable advancements in medical care, treatment, acceptance, and understanding surrounding the virus. While admirable progress has been made, it is not enough, and we must continue to work toward a vaccine and a cure. Today, we reaffirm our commitment to control this disease as a public health threat and end its devastating impact on families and communities worldwide.

Approximately 1.1 million people in the United States and 38 million around the world are living with HIV. While we have made tremendous strides through American ingenuity and innovation in combatting HIV/AIDS over more than three decades, infections unfortunately persist. Thankfully, due to the availability of antiretroviral therapy, HIV is now considered a manageable chronic condition rather than a fatal diagnosis. New laboratory and epidemiological techniques allow us to identify where HIV infections are spreading most rapidly so health officials can respond with resources to stop the further spread of new infections. Proven interventions, including pre-exposure prophylaxis (PrEP) and syringe services programs, are assisting in preventing new HIV transmissions. Still, a combination of prevention and treatment approaches is needed to integrate and implement our most effective biomedical and socio-behavioral tools. In addition, increased efforts are necessary to reach those populations disproportionately affected by HIV.

To strengthen our response to the HIV/AIDS crisis, my Administration launched an unprecedented initiative, Ending the HIV Epidemic: A Plan for America, to eliminate at least 90 percent of new HIV infections in the United States within 10 years by focusing on diagnosis, treatment, prevention, and response. Through this initiative, we will continue to lead the charge in applying the latest science to better diagnose, treat, care for, and save the lives of individuals living with HIV by focusing on the cities and States most impacted by the disease. The Department of Health and Human Services is coordinating this cross-agency initiative to include efforts from the Centers for Disease Control and Prevention, the National Institutes of Health, the Health Resources and Services Administration, and the Indian Health Service to bring us closer than ever to ending the HIV epidemic.

American leadership in the global response to HIV/AIDS is clear and as strong as ever through the President's Emergency Plan for AIDS Relief (PEPFAR). The United States has invested more than $85 billion in the global HIV/AIDS response—the largest commitment made by any nation to address a single disease. Overseen by the Department of State, PEPFAR's life-saving work in more than 50 countries is made possible through our country's unwavering commitment to the program and the American people's compassion and generosity. These efforts have saved more than 18 million lives, prevented millions of new HIV infections, and moved the HIV/AIDS pandemic from crisis toward control—community by community. Several PEPFAR-supported countries have either approached or exceeded targets for HIV/AIDS epidemic control, putting them on pace to reach this critical milestone by 2020. For millions of men, women, and children around the world, PEPFAR has replaced death and despair with vibrant life and hope.

On World AIDS Day, we are reminded that no challenge can defeat the unyielding American spirit. As a Nation, we must come together to remove the stigma surrounding HIV and to address disparities facing people living with this disease. Our success is contingent upon collaboration across all levels of government here in the United States and around the world, community interaction and outreach to people with HIV and at-risk populations, and a citizenry motivated by compassion for the suffering of humankind and hope for the future. Together, we will continue to make progress in our efforts to find a cure for HIV/AIDS and to ensure that all Americans live healthier and happier lives.

NOW, THEREFORE, I, DONALD J. TRUMP, President of the United States of America, by virtue of the authority vested in me by the Constitution and the laws of the United States, do hereby proclaim December 1, 2019, as World AIDS Day. I urge the Governors of the States and the Commonwealth of Puerto Rico, officials of the other territories subject to the jurisdiction of the United States, and all Americans to join me in appropriate activities to remember those who have lost their lives to AIDS and to provide support and compassion to those living with HIV.

IN WITNESS WHEREOF, I have hereunto set my hand this twenty-seventh day of November, in the year of our Lord two thousand nineteen, and of the Independence of the United States of America the two hundred and forty-fourth.

[FR Doc. 2019-26285

Filed 12-3-19; 8:45 am]

Billing code 3295-F0-P